DEPARTMENT OF COMMERCE

National Oceanic and Atmospheric Administration

[RTID 0648-XE876]

Marine Mammals; File No. 28742

AGENCY: National Marine Fisheries Service (NMFS), National Oceanic and Atmospheric Administration (NOAA), Commerce.

ACTION: Notice; receipt of application.

SUMMARY: Notice is hereby given that the Institute of Marine Sciences, University of California at Santa Cruz, Santa Cruz, CA 95064 (responsible party: Roxanne Beltran, Ph.D.), has applied in due form for a permit to conduct research on northern elephant seals (Mirounga angustirostris).

DATES: Written comments must be received on or before September 8, 2025.

ADDRESSES: The application and related documents are available for review by selecting “Records Open for Public Comment” from the “Features” box on the Applications and Permits for Protected Species home page, https://apps.nmfs.noaa.gov, and then selecting File No. 28742 from the list of available applications. These documents are also available upon written request via email to NMFS.Pr1Comments@noaa.gov.

Written comments on this application should be submitted via email to NMFS.Pr1Comments@noaa.gov. Please include File No. 28742 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (16 U.S.C. 1361 et seq.) and the regulations governing the taking and importing of marine mammals (50 CFR part 216).

The applicant requests authorization to continue a long-term research program started in 1968 to study northern elephant seal population growth and status, reproductive strategies, behavioral and physiological adaptations for diving and fasting, general physiology and metabolism, and sensory physiology. Northern elephant seals may be captured and handled for research, as well as harassed during research. Research methods include behavioral observations, marking, flipper tagging, capture and sampling, active and passive acoustics, attachment of instruments, translocation studies, short-term captive holding for laboratory studies, use of hormone challenges and standard clinical tracer techniques for physiology studies. Research would include all age and sex classes of northern elephant seals over the entire calendar year. Proposed research locations include haul-out sites from California to Washington, but primarily Año Nuevo. Unintentional harassment of northern elephant seals, California sea lions (Zalophus californianus), harbor seals (Phoca vitulina), and Steller sea lions (Eumetopias jubatus) of the Eastern Distinct Population Segment is requested. Up to 3 unintentional mortalities during research and up to 2 directed mortalities for euthanasia of moribund or orphaned pups, are requested annually; a maximum of 10 mortalities (unintentional and intentional combined) would be authorized over the duration of the permit. The duration of the requested permit is 10 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 6, 2025.
Shannon Bettridge,
Chief, Marine Mammal and Sea Turtle Conservation Division, Office of Protected Resources, National Marine Fisheries Service.

[FR Doc. 2025-15124 Filed 8-7-25; 8:45 am]

BILLING CODE 3510-22-P